ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled a meeting of its Technical Programs Committee to take place in Washington, DC on Tuesday, September 14, 2004, as noted below.

DATES: The schedule of events is as follows:

Tuesday, September 14, 2004

3-5 p.m. Technical Programs Committee.

ADDRESSES: The meeting will be held at the Marriott at Metro Center Hotel, 775 12th Street, NW., Washington, DC 20005.

FOR FURTHER INFORMATION CONTACT: For further information regarding this meeting, please contact Lawrence W. Roffee, Executive Director, (202) 272-0001 (voice) and (202) 272-0082 (TTY).

SUPPLEMENTARY INFORMATION: At the Technical Programs Committee meeting, the Access Board will consider the following agenda items: (a) Ongoing research and technical assistance projects; and (b) FY 2005 research program.

This meeting is accessible to persons with disabilities. If you plan to attend and require a sign language interpreter or similar accommodation, please make your request with the Board by September 7, 2004. Persons attending Board meetings are requested to refrain from using perfume, cologne, and other fragrances for the comfort of other participants.

Lawrence W. Roffee,
Executive Director.

[FR Doc. 04-19883 Filed 8-31-04; 8:45 am]

BILLING CODE 8150-01-P